NATIONAL SCIENCE FOUNDATION

Notice of Availability for Public Comment on the Draft Joint Subcommittee on Ocean Science and Technology—Interagency Ocean Observation Committee Public-Private Use Policy

AGENCY: National Science Foundation.

ACTION: Notice of availability; request for comments.

SUMMARY: The NOAA Integrated Ocean Observing System (IOOS) Program publishes this notice on behalf of the Joint Subcommittee on Ocean Science and Technology—Interagency Ocean Observation Committee (JSOST-IOOC) to announce a 60-day public comment period for the Public-Private Use Policy mandated by the Integrated Coastal and Ocean Observation System Act of 2009. This policy defines the process the IOOC will use to make decisions about the roles of the federal government, the States, regional information coordination entities, the academic community and the private sector in providing IOOS environmental information, products, technologies and services to end-user communities.

DATES: Written, faxed or emailed comments must be received no later than 5 p.m. eastern standard time on October 12, 2010.

ADDRESSES: The JSOST-IOOC Public-Private Use Policy is available for review at Web site URL: http://www.iooc.us. For the public unable to access the internet, printed copies can be requested by contacting the IOOC Support Office at the address below. The public is encouraged to submit comments electronically to iooc@oceanleadership.org. If you are unable to access the internet, comments may be submitted via fax or regular mail. Faxed comments should be sent to 202-332-8887 with Attn: IOOC Support Office. Comments may be submitted in writing to the Consortium for Ocean Leadership, Attention: IOOC Support Office, 1201 New York Avenue, NW., 4th Floor, Washington, DC 20005

FOR FURTHER INFORMATION CONTACT: For further information about this notice, please contact the IOOC Support Office, telephone: 202-787-1622; E-mail: iooc@oceanleadership.org.

SUPPLEMENTARY INFORMATION: On 30 March 2009, President Barack Obama signed into law the Integrated Coastal and Ocean Observation Act of 2009. Among the requirements in the Act is a directive to the National Ocean Research Leadership Council (NORLC) to develop a Public-Private Use Policy. In April 2007 the NORLC jointly agreed with the Committee on Ocean Policy supporting body, the Interagency Committee on Ocean Science and Resource Management Integration (ICOSRMI), to allow future actions taken by ICOSRMI to be deemed actions of the NORLC for the purpose of maintaining interagency progress. The IOOC, the federal interagency group established to lead the interagency planning and coordination of ocean observing activities including IOOS, is represented by seventeen federal agencies, with NOAA identified as the lead federal agency by the Administration. As defined in the IOOC Charter, the purpose of the IOOC is to advise and assist the JSOST on matters relating to all aspects of ocean observations within the scope of an end-to-end concept of ocean observations. The JSOST is under the governance of the NORLC and, by the April 2007 agreement, the ICOSRMI.

Dated: August 5, 2010.
Suzanne H. Plimpton,
Reports Clearance Officer, National Science Foundation.

[FR Doc. 2010-19762 Filed 8-10-10; 8:45 am]

BILLING CODE 7555-01-P